DEPARTMENT OF ENERGY

10 CFR Part 300

RIN 1901-AB11

General Guidelines for Voluntary Greenhouse Gas Reporting

AGENCY: Office of Policy and International Affairs, Department of Energy.

ACTION: Proposed rule; extension of comment period.

SUMMARY: On December 5, 2003, the Department of Energy published a Notice of Proposed Rulemaking (68 FR 68204) to revise the General Guidelines governing the Voluntary Reporting of Greenhouse Gases Program established by Section 1605(b) of the Energy Policy Act of 1992. The notice announced that the closing date for receiving public comments would be February 3, 2004. Several organizations requested that the comment period be extended to allow additional time for understanding and preparing written comments on the proposed revisions to the General Guidelines. The Department has agreed to extend the comment period to February 17, 2004. In addition, the Department intends, subsequently, to publish for comment a supplemental notice of proposed revised General Guidelines, simultaneously with the publication for public comment of planned Technical Guidelines.

DATES: Comments must be received on or before February 17, 2004.

ADDRESSES: Please submit written comments to: 1605bgeneral guidelines.comments@hq.doe.gov. Alternatively, written comments may be sent to: Mark Friedrichs, PI-40; Office of Policy and International Affairs; U.S. Department of Energy; Room 1E190, 1000 Independence Ave., SW., Washington, DC 20585. You may review comments received by DOE, the record of the public workshop held on January 12, 2004, and other related material at the following Web site: http://www.pi.energy. gov/enhancing GHGregistry/proposed guidelines/ generalguidelines.html. If you lack access to the internet, you may access this website by visiting the DOE Freedom of Information Reading Room, 1000 Independence Avenue, SW., Washington, DC.

FOR FURTHER INFORMATION CONTACT: Mark Friedrichs, PI-40, Office of Policy and International Affairs, U.S. Department of Energy, 1000 Independence Ave., SW., Washington, DC 20585, or e-mail: 1605bgeneral guidelines.comments@hq.doe.gov [Please indicate if your e-mail is a request for information, rather than a public comment.]

Issued in Washington, DC, on January 23, 2004.
Robert G. Card,
Under Secretary for Energy, Science and Environment.

[FR Doc. 04-1922 Filed 1-28-04; 8:45 am]

BILLING CODE 6450-01-P